DEPARTMENT OF COMMERCE

National Oceanic and Atmospheric Administration

[RTID 0648-XE250]

Pacific Fishery Management Council; Public Meetings

AGENCY: National Marine Fisheries Service (NMFS), National Oceanic and Atmospheric Administration (NOAA), Commerce.

ACTION: Notice of public meetings.

SUMMARY: The Pacific Fishery Management Council (Pacific Council) and its advisory bodies will meet September 18-23, 2024 in Spokane, WA and via webinar. The Council meeting will be live streamed with the opportunity to provide public comment remotely.

DATES: The Pacific Council meeting will begin on Thursday, September 19, 2024, at 9 a.m., Pacific Daylight Time (PDT), reconvening at 8 a.m. on Friday, September 20 through Monday, September 23, 2024. All meetings are open to the public, except for a Closed Session held from 8 a.m. to 9 a.m., Thursday, September 19, 2024, to address litigation and personnel matters. The Pacific Council will meet as late as necessary, each day, to complete its scheduled business.

ADDRESSES:

Meeting address: Meetings of the Pacific Council and its advisory entities will be held at the Doubletree by Hilton Hotel Spokane City Center, 322 N Spokane Falls Court, Spokane, WA; telephone: (509) 455-9600. Specific meeting information, including directions on joining the meeting, connecting to the live stream broadcast, and system requirements will be provided in the meeting announcement on the Pacific Council's website (see https://www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Mr. Merrick Burden, Executive Director, Pacific Council; telephone: (503) 820-2280 or (866) 806-7204 toll-free, or access the Pacific Council website, https://www.pcouncil.org, for the proposed agenda and meeting briefing materials.

SUPPLEMENTARY INFORMATION: The September 18-23, 2024 meeting of the Pacific Council will be streamed live on the internet. The broadcasts begin initially at 9 a.m. PDT Thursday, September 19, 2023, and 8 a.m. PDT Friday, September 20 through Monday, September 23, 2024. Broadcasts end when business for the day is complete. Only the audio portion and presentations displayed on the screen at the Pacific Council meeting will be broadcast. The audio portion for the public is listen-only except that an opportunity for oral public comment will be provided prior to Council Action on each agenda item. Additional information and instructions on joining or listening to the meeting can be found on the Pacific Council's website (see https://www.pcouncil.org).

The following items are on the Pacific Council agenda, but not necessarily in this order. Agenda items noted as “Final Action” refer to actions the Council may take requiring the transmission of a proposed fishery management plan, proposed plan amendment, or proposed regulations to the U.S. Secretary of Commerce, under Sections 304 or 305 of the Magnuson-Stevens Fishery Conservation and Management Act. Additional detail on agenda items, Council action, and advisory entity meeting times, are described in Agenda Item A.4, Proposed Council Meeting Agenda, and will be in the advance September 2024 briefing materials and posted on the Pacific Council website at https://www.pcouncil.org no later than Friday, August 30, 2024.

A. Call to Order

1. Opening Remarks

2. New Council Member Appointments

3. Roll Call

4. Agenda

5. Executive Director's Report

B. Open Comment Period

1. Comments on Non-Agenda Items

C. Cross Fishery Management Plan

1. Marine Planning

2. Equity and Environmental Justice (EEJ)—Gap Analysis Framework and Regional Implementation Plan

3. Inflation Reduction Act Projects—Check In

D. Habitat Issues

1. Current Habitat Issues

E. Salmon Management

1. National Marine Fisheries Service Report

2. Methodology Review—Final Topic Selection

3. Queets Spring/Summer Chinook Rebuilding—Range of Alternatives and Preliminary Preferred Alternative

F. Pacific Halibut Management

1. 2025 Catch Sharing Plan and Annual Regulations—Preliminary

2. Commercial Fishery Regulation Changes: Vessel Monitoring Systems, Seabird Avoidance, and Catch Reporting—Range of Alternatives, Preliminary Preferred Alternative

G. Coastal Pelagic Species Management

1. National Marine Fisheries Service Report

H. Ecosystem Matters

1. Fishery Ecosystem Plan Initiative 4: Groundfish and Salmon Risk Tables—Progress Review

I. Groundfish Management

1. National Marine Fisheries Service Report—Including Sablefish Management Strategy Evaluation Update

2. Methodology Review: Preliminary Fishery Impact Model Topics

3. Final Trawl Cost Project Report

4. 2025 and 2027 Stock Assessment Plan and Schedule

5. Stock Definitions for Species Assessed in 2025 & 2027—Preliminary Preferred Alternative

6. Inseason Adjustments for 2024 and Technical Corrections for 2025-2026—Final Action

7. Trawl Catch Share Program and Intersector Allocation Reviews—Scoping

8. Phase 2 Stock Definitions—Scoping

J. Highly Migratory Species Management

1. National Marine Fisheries Service Report

2. International Management Activities

3. 2025-26 Harvest Specifications and Management Measures—Preliminary

K. Administrative Matters

1. Fiscal Matters

2. Approve Council Meeting Record

3. Membership Appointments and Council Operating Procedures—Including Final 2025-27 Advisory Body Composition

4. Future Council Meeting Agenda and Workload Planning

Advisory Body Agendas

Advisory body agendas will include discussions of relevant issues that are on the Pacific Council agenda for this meeting and may also include issues that may be relevant to future Council meetings. Proposed advisory body agendas for this meeting will be available on the Pacific Council website, www.pcouncil.org, no later than Friday, August 30, 2024 by the end of the business day.

Schedule of Ancillary Meetings

Day 1—Tuesday, September 17, 2024

Scientific and Statistical Committee 8 a.m.

Day 2—Wednesday, September 18, 2024

Groundfish Advisory Subpanel 8 a.m.

Groundfish Management Team 8 a.m.

Salmon Advisory Subpanel (online) 8 a.m.

Scientific and Statistical Committee 8 a.m.

Budget Committee 1 p.m.

Enforcement Consultants 2 p.m.

Day 3—Thursday, September 19, 2024

Groundfish Advisory Subpanel 8 a.m.

Groundfish Management Team 8 a.m.

Scientific and Statistical Committee 8 a.m.

Enforcement Consultants As Necessary

Day 4—Friday, September 20, 2024

Groundfish Advisory Subpanel 8 a.m.

Groundfish Management Team 8 a.m.

Highly Migratory Species Advisory Subpanel 8 a.m.

Highly Migratory Species Management Team 8 a.m.

Enforcement Consultants As Necessary

Day 5—Saturday, September 21, 2024

Groundfish Advisory Subpanel 8 a.m.

Groundfish Management Team 8 a.m.

Highly Migratory Species Advisory Subpanel 8 a.m.

Highly Migratory Species Management Team 8 a.m.

Enforcement Consultants As Necessary

Day 6—Sunday, September 22, 2024

Enforcement Consultants As Necessary

Day 7—Monday, September 23, 2024

Enforcement Consultants As Necessary

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 business days prior to the meeting date.

Authority: 16 U.S.C. 1801 et seq.

Dated: August 29, 2024.
Alyssa Weigers,
Acting Deputy Director, Office of Sustainable Fisheries, National Marine Fisheries Service.

[FR Doc. 2024-19813 Filed 9-3-24; 8:45 am]

BILLING CODE 3510-22-P